ENVIRONMENTAL PROTECTION AGENCY

[FRL-7915-4]

Proposed Settlement Under Section 122(g) of the Comprehensive Environmental Response, Compensation and Liability Act Regarding the Pittsburgh Metal and Equipment Superfund Site, Jersey City, NJ

AGENCY: Environmental Protection Agency.

ACTION: Notice of proposed administrative settlement and request for public comment.

SUMMARY: In accordance with section 122(g)(4) of the Comprehensive Environmental Response, Compensation, and Liability Act of 1980, as amended (“CERCLA”), 42 U.S.C. 9622(g)(4), to reach settlements with de minimis parties in actions under section 106 or 107 of CERCLA, 42 U.S.C. 9606 or 9607, et seq., the U.S. Environmental Protection Agency (“EPA”) announces a proposed administrative settlement to resolve claims under CERCLA at the Pittsburgh Metal & Equipment Superfund Site. This settlement among the de minimis Settling Parties with respect to the Site pursuant to section 122(g) of CERCLA, 42 U.S.C. 9622(g), allows Parties to make a cash payment to resolve their alleged civil liability under Sections 106 and 107 of CERCLA, 42 U.S.C. 9606 and 9607, for injunctive relief with regard to the Site and for response costs incurred and to be incurred at or in connection with the Site. By this notice, EPA is informing the public of the proposed settlement and of the opportunity to comment.

The Site is a former smelting facility that operated for approximately thirty-five years. It received used metal and dross from a number of clients, including those in the printing industries. EPA confirmed contamination at the Site as high as 15% lead in the top two feet of soil. Other hazardous substances at the site include cadmium, antimony, beryllium, copper, nickel, silver, zinc, and PCBs.

As a result of the release or threatened release of hazardous substances, EPA has undertaken response actions at or in connection with the Site under section 104 of CERCLA, 42 U.S.C. 9604.

Section 122(g) of CERCLA authorizes EPA to consider, compromise and settle certain claims incurred by the United States. Under the terms of the Agreement, the de minimis Settling Parties will pay a total of approximately $370,000.00 to reimburse EPA for certain response costs incurred at the Site. In exchange, EPA will grant a covenant not to sue or take administrative action against the Parties for reimbursement of past-response costs pursuant to section 107(a) of CERCLA. The Attorney General has approved this settlement.

EPA will consider any comments received during the comment period and may withdraw or withhold consent to the proposed settlement if comments disclose facts or considerations that indicate the proposed settlement is inappropriate, improper, or inadequate. EPA's response to any comments received will be available for public inspection at the U.S. Environmental Protection Agency, Office of Regional Counsel, 290 Broadway—17th Floor, New York, New York 10007-1866, Telephone: (212) 637-3111.

DATES: Comments must be provided within June 20, 2005.

ADDRESSES: Comments should be sent to the U.S. Environmental Protection Agency, Office of Regional Counsel, 290 Broadway—17th Floor, New York, NY 10007-1866 and should refer to: Pittsburgh Metal and Equipment Superfund Site, U.S. EPA Index No. CERCLA-02-2005-2007.

FOR FURTHER INFORMATION CONTACT: U.S. Environmental Protection Agency, Office of Regional Counsel, 290 Broadway—17th Floor, New York, New York 10007-1866. Telephone: (212) 637-3111.

SUPPLEMENTARY INFORMATION: A copy of the proposed administrative settlement may be obtained in person or by mail from Sonia Malone-Ayala, U.S. Environmental Protection Agency, 290 Broadway—17th Floor, New York, NY 10007-1866. Telephone: (212) 637-3126.

Dated: May 2, 2005.
William J. McCabe,
Acting Director, Emergency and Remedial Response Division, Region 2.

[FR Doc. 05-10147 Filed 5-19-05; 8:45 am]

BILLING CODE 6560-50-P